DEPARTMENT OF LABOR

Office of Federal Contract Compliance Programs

Proposed Renewal of the Approval of Information Collection Requirements; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA). The program helps ensure that requested data can be provided in the desired format, reporting burden (time and financial resources) is minimized, collection instruments are clearly understood, and the impact of collection requirements on respondents can be properly assessed. Currently, the Office of Federal Contract Compliance Programs (OFCCP) is soliciting comments concerning its proposal to obtain approval from the Office of Management and Budget (OMB) to renew the following information collections: “Vietnam Era Veterans' Readjustment Assistance Act, as Amended” (OMB Control No. 1250-0004) and “Section 503 of the Rehabilitation Act of 1973, as Amended” (OMB Control No. 1250-0005). The current OMB approvals for these information collections expire on April 30, 2023 and May 31, 2023, respectively. A copy of the proposed information collection requests can be obtained by contacting the office listed below in the FOR FURTHER INFORMATION CONTACT section of this notice or by accessing it at www.regulations.gov.

DATES: Written comments must be submitted using one of the methods listed in the addresses section below on or before January 17, 2023.

ADDRESSES: You may submit comments by any of the following methods:

Electronic comments: The Federal eRulemaking portal at www.regulations.gov. Follow the instructions found on that website for submitting comments.

Mail, Hand Delivery, Courier: Addressed to Tina T. Williams, Director, Division of Policy and Program Development, Office of Federal Contract Compliance Programs, 200 Constitution Avenue NW, Room C-3325, Washington, DC 20210.

Instructions: Please submit one copy of your comments by only one method. For faster submission, we encourage commenters to transmit their comment electronically via the www.regulations.gov website. Comments that are mailed to the address provided above must be postmarked before the close of the comment period. All submissions must include OFCCP's name for identification. Comments submitted in response to the notice, including any personal information provided, become a matter of public record and will be posted on www.regulations.gov. Comments will also be summarized and/or included in the request for OMB approval of the information collection request.

FOR FURTHER INFORMATION CONTACT: Tina T. Williams, Director, Division of Policy and Program Development, Office of Federal Contract Compliance Programs, 200 Constitution Avenue NW, Room C-3325, Washington, DC 20210. Telephone: (202) 693-0103 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

I. Background: OFCCP administers and enforces the three equal employment opportunity authorities listed below.

• Executive Order 11246, as amended (E.O. 11246)

• Section 503 of the Rehabilitation Act of 1973, as amended (section 503)

• Vietnam Era Veterans' Readjustment Assistance Act of 1974, as amended (VEVRAA)

E.O. 11246 requires affirmative action and prohibits covered Federal contractors from discriminating against applicants and employees based on race, color, religion, sex, sexual orientation, gender identity, or national origin. E.O. 11246 also prohibits contractors from taking discriminatory actions, including firing, against applicants and employees for inquiring about, discussing, or disclosing their own compensation information and, in certain instances, the compensation information of their co-workers. E.O. 11246 applies to Federal contractors and subcontractors and to federally assisted construction contractors holding a government contract in excess of $10,000, or government contracts that have, or can reasonably be expected to have, an aggregate total value exceeding $10,000 in a 12-month period. E.O. 11246 also applies to government bills of lading, depositories of Federal funds in any amount, and financial institutions that are issuing and paying agents for U.S. savings bonds.

Section 503 prohibits employment discrimination against applicants and employees because of physical or mental disability and requires contractors and subcontractors to take affirmative action to employ and advance in employment qualified individuals with disabilities. Section 503 applies to Federal contractors and subcontractors with contracts in excess of $15,000.¹

¹ Effective October 1, 2010, the coverage threshold under section 503 increased from $10,000 to $15,000, in accordance with the inflationary adjustment requirements in 41 U.S.C. 1908. See Federal Acquisition Regulation; Inflation Adjustment of Acquisition-Related Thresholds, 75 FR 53129 (Aug. 30, 2010).

VEVRAA requires contractors to take affirmative action to employ, and advance in employment, qualified protected veterans. VEVRAA applies to Federal contractors and subcontractors with contracts of $150,000 or more.²

² Effective October 1, 2015, the coverage threshold under VEVRAA increased from $100,000 to $150,000, in accordance with the inflationary adjustment requirements in 41 U.S.C. 1908. See Federal Acquisition Regulation; Inflation Adjustment of Acquisition-Related Thresholds, 80 FR 38293 (July 2, 2015).

II. Review Focus: OFCCP is particularly interested in comments that:

• Evaluate the proposed changes to the Voluntary Self-Identification of Disability form;

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

III. Current Actions: OFCCP seeks the approval of the renewal of these information collections in order to carry out its responsibility to enforce the affirmative action and nondiscrimination provisions of VEVRAA and section 503, which it administers.

Type of Review: Renewal.

Agency: Office of Federal Contract Compliance Programs.

Title: 38 U.S.C. 4212, Vietnam Era Veterans' Readjustment Assistance Act, as Amended.

OMB Number: 1250-0004.

Agency Number: None.

Affected Public: Business or other for profit; individuals.

Total Respondents: 97,271 Contractor Establishments. 35,017,560 Applicants.

Total Annual Responses: 97,271 Contractor Establishments. 35,017,560 Applicants.

Average Time per Response: 16.8 hours per Contractor Establishment. .08 hours (5 minutes) per Applicant.

Estimated Total Burden Hours: 4,439,563.

Frequency: On occasion.

Total Burden Cost (capital/startup): $0.

Total Burden Cost (operating/maintenance): $1,330,654.

Type of Review: Renewal.

Agency: Office of Federal Contract Compliance Programs.

Title: 29 U.S.C 793, Section 503 of the Rehabilitation Act of 1973, as Amended.

OMB Number: 1250-0005.

Agency Number: None.

Affected Public: Business or other for profit; individuals.

Total Respondents: 97,271 Contractor Establishments. 35,017,560 Applicants. 5,166,988 Employees.

Total Annual Responses: 97,271 Contractor Establishments. 35,017,560 Applicants. 5,166,988 Employees.

Average Time per Response: 4.5 hours per Contractor Establishment. .08 hours (5 minutes) per Applicant. .08 hours (5 minutes) per Employee.

Estimated Total Burden Hours: 3,650,074.

Frequency: On occasion.

Total Burden Cost (capital/startup): $0.

Total Burden Cost (operating/maintenance): $1,330,654.

Comments submitted in response to this notice will be summarized and/or included in the request for OMB approval of the information collection requests; they will also become a matter of public record.

Dated: November 8, 2022.
Tina T. Williams,
Director, Division of Policy and Program Development, Office of Federal Contract Compliance Programs.

[FR Doc. 2022-24930 Filed 11-15-22; 8:45 am]

BILLING CODE 4510-CM-P